NUCLEAR REGULATORY COMMISSION

[NRC-2014-0143]

NRC Endorsement of Trial Use PRA Standards and Criteria for Evaluating Multi-Module Risk

AGENCY: Nuclear Regulatory Commission.

ACTION: Public meeting.

SUMMARY: The U.S. Nuclear Regulatory Commission (NRC) plans to hold a public meeting to discuss NRC options regarding endorsement of ASME/ANS PRA standards and the staff proposed criteria for evaluating multi-module risk.

DATES: The public meeting will be held on June 26, 2014. See Section II, Public Meeting, of this document for more information on the meeting.

ADDRESSES: Please refer to Docket ID NRC-2014-0143 when contacting the NRC about the availability of information regarding this document. You may obtain publicly-available information related to this document using any of the following methods:

• Federal Rulemaking Web site: Go to http://www.regulations.gov and search for Docket ID NRC-2014-0143. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Mary Drouin, Office of Nuclear Regulatory Research, U.S. Nuclear Regulatory Commission, Washington, DC 20555-0001; telephone: 301-251-7574; email: Mary.Drouin@nrc.gov.

SUPPLEMENTARY INFORMATION:

I. Background

The ASME/ANS Joint Committee on Nuclear Risk Management (JCNRM) plans to publish three Probabilistic Risk Assessment (PRA) standards for trial use at the end of this calendar year or the beginning of 2015: (1) Low Power Shutdown PRA Standard, (2) Level 2 PRA Standard and (3) Advanced Light Water Reactor (ALWR) PRA standard. At a public meeting, the NRC seeks to discuss with interested stakeholders options for the NRC to endorse use of these standards.

The NRC has been discussing multi-unit risk for many years with limited discussion on multi-module risk. The NRC staff plans to discuss their expectations for Multi-Module risk in a public meeting and in a white paper entitled “Multi-Module Risk-NRC Expectations” (ADAMS Accession No. ML14150A330). The paper will be issued and available to the public by June 20, 2014.

II. Public Meeting

The public meeting will be held in Rockville, Maryland, at 21 Church Street in Room CSB 06B1 on June 26, 2014, at 8:00 a.m.

There will be two items on the agenda for the meeting. The first agenda item will be to discuss staff options for endorsement of the ASME/ANS standards to be issued for trial use and to solicit stakeholder input. The second agenda item will be discussion of the NRC white paper entitled “Multi—Module Risk-NRC Expectations” (ADAMS ML ML14150A330) which will be available to the public by June 20, 2014.

The purpose of these agenda items is for the NRC staff to answer questions, to provide clarification regarding the white paper, and to solicit early stakeholder comments on both of these subjects. This meeting will be a Category 2 public meeting.

Dated at Rockville, Maryland, this 11th day of June 2014.
For the Nuclear Regulatory Commission.
Richard P. Correia,
Director, Division of Risk Analysis, Office of Nuclear Regulatory Research.

[FR Doc. 2014-14271 Filed 6-17-14; 8:45 am]

BILLING CODE 7590-01-P